ENVIRONMENTAL PROTECTION AGENCY

40 CFR Part 180

[EPA-HQ-OPP-2017-0006; FRL-9976-37]

Receipt of Several Pesticide Petitions Filed for Residues of Pesticide Chemicals in or on Various Commodities; Correction

AGENCY: Environmental Protection Agency (EPA).

ACTION: Notice of filing of petitions; correction.

SUMMARY: EPA issued a notice in the Federal Register of March 21, 2018, concerning a Notice of filing—New Tolerance Exemptions for Inerts (except PIPs). This document corrects a typographical error.

FOR FURTHER INFORMATION CONTACT: Robert McNally, Biopesticides and Pollution Prevention Division (7511P); email address: BPPDFRNotices@epa.gov; Michael Goodis, Registration Division, (7505P); email address: RDFRNotices@epa.gov; Office of Pesticide Programs, Environmental Protection Agency, 1200 Pennsylvania Ave. NW, Washington, DC 20460-0001; telephone number: (703) 305-7090.

SUPPLEMENTARY INFORMATION:

I. General Information

A. Does this action apply to me?

The Agency included in the March 21, 2018, (83 FR 12311) (FRL-9974-76) proposed rule a list of those who may be potentially affected by this action.

B. How can I get copies of this document and other related information?

The docket for this action, identified by docket identification (ID) number EPA-HQ-OPP-2017-0006, is available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What does this correction do?

This document corrects a typographical error of an incorrect Docket number.

FR Doc. 2018-05639 published in the Federal Register of March 21, 2018 (83 FR 12311) (FRL-9974-76) is corrected as follows:

On page 12312, third column, under the heading Notice of Filing—New Tolerance Exemptions for Inerts (Except PIPs), paragraph 1, line 2, correct 2017-0179 to read 2017-0520.

Authority: 21 U.S.C. 346a.

Dated: April 19, 2018.
Delores Barber,
Director, Information Technology and Resources Management Division, Office of Pesticide Programs.

[FR Doc. 2018-10347 Filed 5-14-18; 8:45 am]

BILLING CODE 6560-50-P